DEPARTMENT OF TRANSPORTATION

Office of the Secretary

[Docket No. DOT-OST-2010-0211]

RIN 2105-AE07

Notice of Submission of Proposed Information Collection to OMB Agency Request for Renewal of a Previously Approved Information Collection Request: Reports by Air Carriers on Incidents Involving Animals During Air Transport

AGENCY: Office of the Secretary (OST), Department of Transportation (Department or DOT).

ACTION: Notice and request for comments.

SUMMARY: In accordance with the Paperwork Reduction Act of 1995, this notice announces the Department's intention to apply to the Office of Management and Budget (OMB) to renew the previously approved information collection request (ICR) OMB No. 2105-0552, “Reports by Air Carriers on Incidents Involving Animals During Air Transport.” The current information collection request approved by OMB expires August 31, 2018.

DATES: Comments on this notice must be received by July 20, 2018.

ADDRESSES: You may submit comments (identified by Docket No. DOT-OST-2010-0211) through one of the following methods:

• Federal eRulemaking Portal: http://www.regulations.gov. Follow the online instructions for submitting comments.

• Mail: Docket Management Facility; U.S. Department of Transportation, 1200 New Jersey Avenue SE, West Building, Room W12-140, Washington, DC 20590.

• Hand Delivery: U.S. Department of Transportation, West Building Ground Floor, 1200 New Jersey Avenue SE, Room W12-140, Washington, DC 20590, between 9 a.m. and 5 p.m., Monday through Friday, except on Federal Holidays. The telephone number is 202-366-9329.

FOR FURTHER INFORMATION CONTACT: Vinh Q. Nguyen, Senior Trial Attorney, Office of the General Counsel, Office of the Secretary, U.S. Department of Transportation, 1200 New Jersey Avenue SE, Washington, DC 20590, 202-366-9342 (Voice), 202-366-7152 (fax), or vinh.nguyen@dot.gov (email).

SUPPLEMENTARY INFORMATION:

Title: Reports by Air Carriers on Incidents Involving Animals During Air Transport.

OMB Control Number: 2105-0552.

Type of Request: Renewal of currently approved Information Collection Request.

Background: The Wendell H. Ford Aviation Investment and Reform Act for the 21st Century or “AIR-21” (Pub. L. 106-181), which was signed into law on April 5, 2000, includes section 710, “Reports by Carriers on Incidents Involving Animals During Air Transport.” This provision was codified as 49 U.S.C. 41721. The statute requires air carriers that provide scheduled passenger air transportation to submit monthly to the Secretary of Transportation a report on any incidents involving the loss, injury, or death of an animal (as defined by the Secretary of Transportation) during air transport provided by the air carrier.

On August 11, 2003, DOT, through its Federal Aviation Administration (FAA), issued a final rule implementing section 710 of AIR-21.¹ The rule required air carriers that provide scheduled passenger air transportation to submit a report to APHIS on any incident involving the loss, injury, or death of an animal during air transportation provided by the air carrier. Due to issues regarding whether APHIS had the capability to accept such information directly from the carriers, DOT made a technical change in the rule on February 14, 2005, to require air carriers to submit the required information directly to DOT's Aviation Consumer Protection Division (ACPD) rather than APHIS and to make the rule part of DOT's economic regulations.²

¹ Reporting Directive Regarding Incidents Involving Animals During Air Transport, 68 FR 47798 (August 11, 2003).

² Reports by Air Carriers on Incidents Involving Animals During Air Transport, 70 FR 7392 (February 14, 2005).

On July 3, 2014, DOT published a final rule amending the requirement that air carriers file reports with DOT on the loss, injury, or death of animals during air transport.³ The rule (1) expanded the reporting requirement from the largest U.S. carriers (i.e., U.S. carriers that account for at least 1 percent of domestic scheduled passenger revenue) to U.S. carriers that operate scheduled service with at least one aircraft with a design capacity of more than 60 seats; (2) expanded the definition of “animal” from only a pet in a family household to include all cats and dogs transported by covered carriers, regardless of whether the cat or dog is transported as a pet by its owner or as part of a commercial shipment (e.g., shipped by a breeder); (3) required covered carriers to file a calendar-year report in December, even if the carrier did not have any reportable incidents during the calendar year; (4) required covered carriers to provide in their December reports the total number of animals that were lost, injured, or died during air transport in the calendar year; and (5) required covered carriers to provide in their December reports the total number of animals transported in the calendar year. On August 25, 2015, OMB approved the information collection request, “Reports by Air Carriers on Incidents Involving Animals During Air Transport,” through August 31, 2018.

³ Reports by Air Carriers on Incidents Involving Animals During Air Transport, 79 FR 37938 (July 3, 2014) (codified at 14 CFR part 235).

In order to reduce burden to covered carriers, the ACPD established a website and online system for filing the required reports, http://animalreport.ost.dot.gov. This system enables covered carriers to easily and efficiently submit their reports through the internet rather than sending the reports to the Department by mail or email.

Respondents: U.S. carriers that operate scheduled passenger service with at least one aircraft having a designed seating capacity of more than 60 seats.

Estimated Number of Respondents: 32.

Frequency: For each respondent, one information set for the month of December, plus one information set during some other months (1 to 12).

Estimated Total Burden on Respondents: (1) Monthly reports of incidents involving the loss, injury, or death of animals during air transport: 0 to 384 hours (Respondents [32] × Time to Prepare One Monthly Report [1 hour] × Frequency [0 to 12 per year]). (2) December report containing the total number of animals that were lost, injured, or died during air transport in the calendar year and the total number of animals that were transported in the calendar year: 16 hours (Respondents [32] × Time to Prepare One December Report [0.5 hour] × Frequency (1 per year)].

Public comments invited: You are asked to comment on any aspect of this information collection, including (a) whether the proposed collection of information is necessary for the Department's performance; (b) the accuracy of the estimated burden; (c) ways for the Department to enhance the quality, utility, and clarity of the information collection; and (d) ways that the burden could be minimized without reducing the quality of the collected information.

All comments will become a matter of public record. All responses to this notice will be summarized and included in the request for OMB approval.

Authority: The Paperwork Reduction Act of 1995; 44 U.S.C. Chapter 35, as amended; and 49 CFR 1.27(n).

Issued in Washington, DC, on May 15, 2018, under the authority delegated at 49 CFR 1.27(n).
Blane A. Workie,
Assistant General Counsel for Aviation Enforcement and Proceedings.

[FR Doc. 2018-10763 Filed 5-18-18; 8:45 am]

BILLING CODE 4910-9X-P